FEDERAL HOUSING FINANCE BOARD

[No. 2003-N-6]

Federal Home Loan Bank Members Selected for Community Support Review

AGENCY: Federal Housing Finance Board.

ACTION: Notice.

SUMMARY: The Federal Housing Finance Board (Finance Board) is announcing the Federal Home Loan Bank (Bank) members it has selected for the 2002-03 sixth quarter review cycle under the Finance Board's community support requirements regulation. This notice also prescribes the deadline by which Bank members selected for review must submit Community Support Statements to the Finance Board.

DATES: Bank members selected for the 2002-03 sixth quarter review cycle under the Finance Board's community support requirements regulation must submit completed Community Support Statements to the Finance Board on or before August 25, 2003.

ADDRESSES: Bank members selected for the 2002-03 sixth quarter review cycle under the Finance Board's community support requirements regulation must submit completed Community Support Statements to the Finance Board either by regular mail at the Federal Housing Finance Board, Office of Supervision, Community Investment and Affordable Housing, 1777 F Street, NW., Washington, DC 20006, or by electronic mail at fitzgeralde@fhfb.gov.

FOR FURTHER INFORMATION CONTACT: Emma J. Fitzgerald, Program Analyst, Office of Supervision, Community Investment and Affordable Housing, by telephone at 202/408-2874, by electronic mail at fitzgeralde@fhfb.gov, or by regular mail at the Federal Housing Finance Board, 1777 F Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the August 25, 2003 deadline prescribed in this notice. 12 CFR 944.2(b)(1)(ii) and (c). On or before July 28, 2003, each Bank will notify the members in its district that have been selected for the 2002-03 sixth quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2002-03 sixth quarter community support review cycle:

Member | City | State
Federal Home Loan Bank of Boston—District 1
Charter Oak Federal Credit Union | Groton | Connecticut.
Salisbury Bank & Trust Company | Lakeville | Connecticut.
Chelsea Groton Savings Bank | Norwich | Connecticut.
Rockville Bank | South Windsor | Connecticut.
Thomaston Savings Bank | Thomaston | Connecticut.
North American Bank & Trust Company | Waterbury | Connecticut.
Wilton Bank | Wilton | Connecticut.
Kennebec Savings Bank | Augusta | Maine.
Bath Savings Institution | Bath | Maine.
Maine Savings Federal Credit Union | Hampden | Maine.
Androscoggin Savings Bank | Lewiston | Maine.
Saco & Biddeford Savings Institution | Saco | Maine.
Sanford Institution for Savings | Sanford | Maine.
Asian American Bank & Trust Company | Boston | Massachusetts.
The Community Bank, a Massachusetts Cooperative Bank | Brockton | Massachusetts.
Chicopee Savings Bank | Chicopee | Massachusetts.
Weymouth Bank | East Weymouth | Massachusetts.
Easthampton Savings Bank | Easthampton | Massachusetts.
Dukes County Savings Bank | Edgartown | Massachusetts.
Bank of Fall River, A Co-operative Bank | Fall River | Massachusetts.
Foxborough Savings Bank | Foxboro | Massachusetts.
Gloucester Cooperative Bank | Gloucester | Massachusetts.
Hudson Savings Bank | Hudson | Massachusetts.
Hyde Park Cooperative Bank | Hyde Park | Massachusetts.
Lee Bank | Lee | Massachusetts.
Washington Savings Bank | Lowell | Massachusetts.
Eastern Bank | Lynn | Massachusetts.
Community Credit Union of Lynn | Lynn | Massachusetts.
National Grand Bank | Marblehead | Massachusetts.
Strata Bank | Medway | Massachusetts.
Nantucket Bank | Nantucket | Massachusetts.
Middlesex Savings Bank | Natick | Massachusetts.
First & Ocean National Bank | Newburyport | Massachusetts.
Newburyport Five Cents Savings Bank | Newburyport | Massachusetts.
North Easton Savings Bank | North Easton | Massachusetts.
Norwood Cooperative Bank | Norwood | Massachusetts.
Seamen's Bank | Provincetown | Massachusetts.
Granite Savings Bank | Rockport | Massachusetts.
Rockport National Bank | Rockport | Massachusetts.
The Cooperative Bank | Roslindale | Massachusetts.
The Bank of Western Massachusetts | Springfield | Massachusetts.
Randolph Savings Bank | Stoughton | Massachusetts.
The Savings Bank | Wakefield | Massachusetts.
Walpole Co-operative Bank | Walpole | Massachusetts.
Watertown Savings Bank | Watertown | Massachusetts.
Northern Bank & Trust Company | Woburn | Massachusetts.
First Colebrook Bank | Colebrook | New Hampshire.
Merrimack County Savings Bank | Concord | New Hampshire.
New Hampshire Federal Credit Union | Concord | New Hampshire.
Laconia Savings Bank | Laconia | New Hampshire.
Mascoma Savings Bank | Lebanon | New Hampshire.
Southern New Hampshire Bank | Salem | New Hampshire.
Federal Home Loan Bank of New York—District 2
Skylands Community Bank | Hackettstown | New Jersey.
Haddon Savings Bank | Haddon Heights | New Jersey.
Gibraltar Savings Bank, FSB | Newark | New Jersey.
New Community Federal Credit Union | Newark | New Jersey.
Merrill Lynch Trust Company, FSB | Princeton | New Jersey.
The Rahway Savings Institution | Rahway | New Jersey.
Interchange Bank | Saddle Brook | New Jersey.
Minotola National Bank | Vineland | New Jersey.
Flatbush FS&LA of Brooklyn | Brooklyn | New York.
Manufacturers and Traders Trust Company | Buffalo | New York.
Trustco Bank | Canajoharie | New York.
The Bank of Greene County | Catskill | New York.
Ontario National Bank | Clifton Springs | New York.
Bank of Richmondville | Cobleskill | New York.
Fairport Savings Bank | Fairport | New York.
Highland Falls FS&LA | Highland Falls | New York.
Steuben Trust Company | Hornell | New York.
Ulster Savings Bank | Kingston | New York.
Suffolk Federal Credit Union | Medford | New York.
Atlantic Bank of New York | New York | New York.
Sterling National Bank | New York | New York.
Habib American Bank | New York | New York.
The Rome Savings Bank | Rome | New York.
Sleepy Hollow National Bank | Sleepy Hollow | New York.
Solvay Bank | Solvay | New York.
The Troy Savings Bank | Troy | New York.
Walden Savings Bank | Walden | New York.
Champlain National Bank | Willsboro | New York.
Banco Popular de Puerto Rico | San Juan | Puerto Rico.
Federal Home Loan Bank of Pittsburgh—District 3
Enterprise Bank | Allison Park | Pennsylvania.
Apollo Trust Company | Apollo | Pennsylvania.
Nazareth National Bank and Trust Company | Bethlehem | Pennsylvania.
Farmers and Merchants Trust Company | Chambersburg | Pennsylvania.
Cambria County FS&LA | Cresson | Pennsylvania.
Premier Bank | Doylestown | Pennsylvania.
Portage National Bank | Ebensburg | Pennsylvania.
Elderton State Bank | Elderton | Pennsylvania.
East Penn Bank | Emmaus | Pennsylvania.
First National Bank of Fredericksburg | Fredericksburg | Pennsylvania.
The Gratz National Bank | Gratz | Pennsylvania.
Harleysville National Bank & Trust Company | Harleysville | Pennsylvania.
Irwin Bank and Trust Company | Irwin | Pennsylvania.
The Farmers National Bank of Kittanning | Kittanning | Pennsylvania.
The Bank of Landisburg | Landisburg | Pennsylvania.
First National Bank of Liverpool | Liverpool | Pennsylvania.
The Mars National Bank | Mars | Pennsylvania.
Fulton County National Bank & Trust Company | McConnellsburg | Pennsylvania.
The Union National Bank of Mt. Carmel | Mt. Carmel | Pennsylvania.
The New Tripoli National Bank | New Tripoli | Pennsylvania.
The National Bank of North East | North East | Pennsylvania.
Police & Fire Federal Credit Union | Philadelphia | Pennsylvania.
Reliance Standard Life Insurance Company | Philadelphia | Pennsylvania.
St. Edmond's Federal Savings Bank | Philadelphia | Pennsylvania.
Phoenixville Federal Savings & Loan Association | Phoenixville | Pennsylvania.
Security National Bank | Pottstown | Pennsylvania.
SunBank | Selinsgrove | Pennsylvania.
Orrstown Bank | Shippensburg | Pennsylvania.
First County Bank | Warrington | Pennsylvania.
Jersey Shore State Bank | Williamsport | Pennsylvania.
PeoplesBank, a Codurus Valley Company | York | Pennsylvania.
Progressive Bank N.A. Buckhannon | Buckhannon | West Virginia.
First Exchange Bank | Mannington | West Virginia.
First National Bank of Romney | Romney | West Virginia.
Ameribank | Welch | West Virginia.
Federal Home Loan Bank of Atlanta—District 4
AuburnBank | Auburn | Alabama.
AmSouth Bank | Birmingham | Alabama.
First Commercial Bank of Huntsville | Huntsville | Alabama.
SOUTHBank, A Federal Savings Bank | Huntsville | Alabama.
Peachtree Bank | Maplesville | Alabama.
Farmers and Merchants Bank | Piedmont | Alabama.
The North Jackson Bank | Stevenson | Alabama.
First Bradenton Bank | Bradenton | Florida.
Riverside National Bank | Fort Pierce | Florida.
Peoples State Bank | Lake City | Florida.
The Bank of Brevard | Melbourne | Florida.
Pinebank | Miami | Florida.
The First National Bank of Florida | Milton | Florida.
Tarpon Coast National Bank | Port Charlotte | Florida.
The Bank of Tampa | Tampa | Florida.
First Commercial Bank of Tampa | Tampa | Florida.
Indian River National Bank | Vero Beach | Florida.
HeritageBank of the South | Albany | Georgia.
HeritageBank of the South | Albany | Georgia.
First American Bank and Trust Company | Athens | Georgia.
United Community Bank | Blairsville | Georgia.
Main Street Bank | Covington | Georgia.
First State Bank of Randolph County | Cuthbert | Georgia.
First Intercontinental Bank | Doralville | Georgia.
The Glennville Bank and Trust Co | Glennville | Georgia.
Farmers and Merchants Bank | Lakeland | Georgia.
Security Bank of Bibb County | Macon | Georgia.
Southwest Georgia Bank | Moultrie | Georgia.
Carver State Bank | Savannah | Georgia.
The First State Bank | Stockbridge | Georgia.
Bank of Upson | Thomaston | Georgia.
Thomasville National Bank | Thomasville | Georgia.
Liberty Federal Savings and Loan Association | Baltimore | Maryland.
Kopernik Federal Savings Association | Baltimore | Maryland.
Slavie Federal Savings Bank | Bel Air | Maryland.
Chesapeake Bank and Trust Company | Chestertown | Maryland.
The Chestertown Bank of Maryland | Chestertown | Maryland.
Hagerstown Trust Company | Hagerstown | Maryland.
Lafayette Federal Credit Union | Kensington | Maryland.
First United Bank & Trust | Oakland | Maryland.
The National Bank of Rising Sun | Rising Sun | Maryland.
Bank of Stanly | Albemarle | North Carolina.
Home Savings Bank of Albemarle, SSB | Albemarle | North Carolina.
Self-Help Credit Union | Durham | North Carolina.
Gibsonville Community Bank | Gibsonville | North Carolina.
Farmers & Merchants Bank | Salisbury | North Carolina.
First National Bank of Shelby | Shelby | North Carolina.
Farmers and Merchants Bank | Holly Hill | South Carolina.
E*Trade Bank | Arlington | Virginia.
Northern Neck State Bank | Bowling Green | Virginia.
American National Bank and Trust Company | Danville | Virginia.
Farmers Bank of Maryland | Falls Church | Virginia.
The Bank of Fincastle | Fincastle | Virginia.
Marshall National Bank and Trust Company | Marshall | Virginia.
The Middleburg Bank | Middleburg | Virginia.
First Sentinel Bank | Richlands | Virginia.
First Bank | Strasburg | Virginia.
Federal Home Loan Bank of Cincinnati—District 5
Bedford Loan and Deposit Bank | Bedford | Kentucky.
Berea National Bank | Berea | Kentucky.
South Central Bank of Bowling Green, Inc | Bowling Green | Kentucky.
Meade County Bank | Brandenburg | Kentucky.
Campbellsville National Bank | Campbellsville | Kentucky.
The First National Bank of Columbia | Columbia | Kentucky.
Edmonton State Bank | Edmonton | Kentucky.
FNB of Northern Kentucky | Ft. Mitchell | Kentucky.
Bank of Germantown | Germantown | Kentucky.
United Community Bank | Glasgow | Kentucky.
First Security Bank & Trust, McLean | Island | Kentucky.
The Lawrenceburg National Bank | Lawrenceburg | Kentucky.
The Farmers National Bank of Lebanon | Lebanon | Kentucky.
Square D Employees' Federal Credit Union | Lexington | Kentucky.
Fifth Third Bank Kentucky, Inc | Louisville | Kentucky.
The Citizens National Bank | Russellville | Kentucky.
Bullitt County Bank | Sheperdsville | Kentucky.
Bank of McCreary County | Whitley City | Kentucky.
Williamsburg National Bank | Williamsburg | Kentucky.
FirstMerit Bank, N.A | Akron | Ohio.
Bethel Building and Loan Company | Bethel | Ohio.
The Equitable Savings and Loan Company | Cadiz | Ohio.
CinFed Employees Federal Credit Union | Cincinnati | Ohio.
People's Community Bank | Cincinnati | Ohio.
The Mt. Washington Savings and Loan Company | Cincinnati | Ohio.
ShoreBank, Cleveland | Cleveland | Ohio.
Community First Bank, National Association | Forest | Ohio.
First Ohio Credit Union, Incorporated | Fostoria | Ohio.
Galion Building and Loan Association | Galion | Ohio.
Greenville National Bank | Greenville | Ohio.
Second National Bank | Greenville | Ohio.
New Richmond National Bank | Highland Heights | Ohio.
The First Bremen Bank | Lancaster | Ohio.
First Federal Savings and Loan Association of Lorain | Lorain | Ohio.
Metropolitan Bank and Trust Company | Mayfield Heights | Ohio.
Geauga Savings Bank | Newbury | Ohio.
The Lenox Savings Bank | Norwood | Ohio.
The Ripley National Bank | Ripley | Ohio.
Ripley Federal Savings and Loan Association | Ripley | Ohio.
The First National Bank of Shelby | Shelby | Ohio.
Strasburg Savings Bank | Strasburg | Ohio.
Toledo Area Catholic Credit Union | Sylvania | Ohio.
The Peoples Savings Bank | Urbana | Ohio.
First Federal Savings and Loan Association of Van Wert | Van Wert | Ohio.
The Second National Bank of Warren | Warren | Ohio.
Perpetual Savings Bank | Wellsville | Ohio.
First Federal Savings Bank of Eastern Ohio | Zanesville | Ohio.
The Citizens National Bank of Athens | Athens | Tennessee.
Tennessee Valley FCU | Chattanooga | Tennessee.
Bank of Putnam County | Cookeville | Tennessee.
Farmers Bank | Cornersville | Tennessee.
First Federal Savings Bank | Dickson | Tennessee.
Carter County Bank | Elizabethton | Tennessee.
Jackson Bank & Trust | Gainesboro | Tennessee.
Gates Banking & Trust Company | Gates | Tennessee.
Bank of Gleason | Gleason | Tennessee.
Greene County Bank | Greeneville | Tennessee.
Bank of Halls | Halls | Tennessee.
Commercial Bank | Harrogate | Tennessee.
Union Bank | Jamestown | Tennessee.
Bank of Tennessee | Kingsport | Tennessee.
First Bank | Lexington | Tennessee.
Enterprise National Bank | Memphis | Tennessee.
The Bank of Milan | Milan | Tennessee.
Cavalry Banking | Murfreesboro | Tennessee.
Rutherford Bank and Trust | Murfreesboro | Tennessee.
Commercial Bank & Trust Company | Paris | Tennessee.
Tennessee State Bank | Pigeon Forge | Tennessee.
The Farmers Bank | Portland | Tennessee.
Central Bank | Savannah | Tennessee.
First Community Bank of Bedford County | Shelbyville | Tennessee.
Farmers & Merchants Bank | Trezevant | Tennessee.
American City Bank | Tullahoma | Tennessee.
Reelfoot Bank | Union City | Tennessee.
Federal Home Loan Bank of Indianapolis—District 6
First National Bank | Cloverdale | Indiana.
CSB State Bank | Cynthiana | Indiana.
Three Rivers Federal Credit Union | Fort Wayne | Indiana.
Grabill Bank | Grabill | Indiana.
Union Federal Bank of Indianapolis | Indianapolis | Indiana.
Landmark Savings Bank, FSB | Indianapolis | Indiana.
Lafayette Savings Bank, FSB | Lafayette | Indiana.
Peoples Savings & Loan Association | Monticello | Indiana.
First Citizens State Bank | Newport | Indiana.
Citizens State Bank | Petersburg | Indiana.
Home Building Savings Bank, FSB | Washington | Indiana.
American Trust and Savings Bank of Whiting | Whiting | Indiana.
FirstBank—Alma | Alma | Michigan.
Signature Bank | Bad Axe | Michigan.
Lake-Osceola State Bank | Baldwin | Michigan.
Central State Bank | Beulah | Michigan.
Eastern Michigan Bank | Croswell | Michigan.
Eagle County Federal Credit Union | Crystal Falls | Michigan.
State Bank of Ewen | Ewen | Michigan.
Oakland Commerce Bank | Farmington Hills | Michigan.
Credit Union One | Ferndale | Michigan.
LSI Credit Union | Grand Rapids | Michigan.
Valley Ridge Bank | Kent City | Michigan.
Co-op Services Credit Union | Livonia | Michigan.
FirstBank | Mount Pleasant | Michigan.
First National Bank of Norway | Norway | Michigan.
Sterling Bank and Trust, fsb | Southfield | Michigan.
First Resource Federal Credit Union | St. Joseph | Michigan.
Federal Home Loan Bank of Chicago—District 7
National Bank of Commerce | Berkeley | Illinois.
Commonwealth Credit Union | Bourbonnais | Illinois.
Prairie Bank and Trust Company | Bridgeview | Illinois.
Cerro Gordo Building and Loan, s.b | Cerro Gordo | Illinois.
ShoreBank | Chicago | Illinois.
The First Commercial Bank | Chicago | Illinois.
Marquette Bank | Chicago | Illinois.
Resource Bank, N.A | DeKalb | Illinois.
DuQuoin State Bank | DuQuoin | Illinois.
Crossroads Bank | Effingham | Illinois.
Midwest Bank and Trust | Elmwood Park | Illinois.
Metrobank, N.A. | East Moline | Illinois.
Fisher National Bank | Fisher | Illinois.
Midwest Bank of Freeport | Freeport | Illinois.
Midwest Bank of Hinsdale | Hinsdale | Illinois.
Jacksonville Savings Bank | Jacksonville | Illinois.
Kankakee Federal Savings Bank | Kankakee | Illinois.
Union Federal Savings and Loan Association | Kewanee | Illinois.
Citizens State Bank | Lena | Illinois.
Brickyard Bank | Lincolnwood | Illinois.
Citizens National Bank | Macomb | Illinois.
First Suburban National Bank | Maywood | Illinois.
Community National Bank | Metropolis | Illinois.
Marquette Bank Monmouth | Monmouth | Illinois.
Morris Building and Loan, s.b | Morris | Illinois.
Marquette Bank Morrison | Morrison | Illinois.
Farmers State Bank Chadwick & Mt. Carroll | Mt. Carroll | Illinois.
First National Bank of Nokomis | Nokomis | Illinois.
Nokomis Savings Bank | Nokomis | Illinois.
Orangeville Community Bank | Orangeville | Illinois.
First National Bank of Pana | Pana | Illinois.
Vermillion Valley Bank | Piper City | Illinois.
First State Bank of Red Bud | Red Bud | Illinois.
Capaha Bank, S.B | Tamms | Illinois.
AmeriMark Bank | Villa Park | Illinois.
Waukegan Savings and Loan, SB | Waukegan | Illinois.
North Shore Trust and Savings | Waukegan | Illinois.
Prospect Federal Savings Bank | Worth | Illinois.
First National Bank of Xenia | Xenia | Illinois.
American National Bank Fox Cities | Appleton | Wisconsin.
State Bank of Arcadia | Arcadia | Wisconsin.
The First National Bank and Trust Co. of Baraboo | Baraboo | Wisconsin.
First National Bank of Barron | Barron | Wisconsin.
Blackhawk State Bank | Beloit | Wisconsin.
First National Bank of Berlin | Berlin | Wisconsin.
Badger State Bank | Cassville | Wisconsin.
State Bank of Chilton | Chilton | Wisconsin.
American Bank | Eau Claire | Wisconsin.
American Bank | Fond du Lac | Wisconsin.
Franklin State Bank | Franklin | Wisconsin.
Peoples National Bank | Hayward | Wisconsin.
Horicon State Bank | Horicon | Wisconsin.
Farmers State Bank | Markesan | Wisconsin.
Mid Wisconsin Bank | Medford | Wisconsin.
Associated Bank South Central | Middleton | Wisconsin.
Lincoln State Bank | Milwaukee | Wisconsin.
Mitchell Bank | Milwaukee | Wisconsin.
Bank of Monticello | Monticello | Wisconsin.
Associated Bank, N.A. | Neenah | Wisconsin.
The Bank of New Glarus | New Glarus | Wisconsin.
First National Bank of New Richmond | New Richmond | Wisconsin.
The RiverBank | Osceola | Wisconsin.
Bank of Poynette | Poynette | Wisconsin.
Johnson Bank | Racine | Wisconsin.
Shell Lake State Bank | Shell Lake | Wisconsin.
Eagle Valley Bank, N.A | St. Croix Falls | Wisconsin.
Acuity Bank SSB | Tomah | Wisconsin.
The Equitable Bank, S.S.B | Wauwatosa | Wisconsin.
ALLCO Credit Union | West Allis | Wisconsin.
Westby Co-op Credit Union | Westby | Wisconsin.
Fortress Bank of Westby | Westby | Wisconsin.
Federal Home Loan Bank of Des Moines—District 8
Ackley State Bank | Ackley | Iowa.
Exchange State Bank | Adair | Iowa.
First State Bank | Belmond | Iowa.
Columbus Junction State Bank | Columbus Junction | Iowa.
Freedom Security Bank | Coralville | Iowa.
Iowa State Savings Bank | Creston | Iowa.
Decorah Bank & Trust | Decorah | Iowa.
Wells Fargo Bank Iowa, N.A | Des Moines | Iowa.
AmerUS Life Insurance Company | Des Moines | Iowa.
Dupaco Community Credit Union | Dubuque | Iowa.
Grundy National Bank | Grundy Center | Iowa.
Hartwick State Bank | Hartwick | Iowa.
Hiawatha Bank and Trust Company | Hiawatha | Iowa.
Community State Bank | Indianaola | Iowa.
Green Belt Bank & Trust | Iowa Falls | Iowa.
First National Bank | Le Mars | Iowa.
Western Bank & Trust, N.A | Moville | Iowa.
First National Bank of Muscatine | Muscatine | Iowa.
Security State Bank | New Hampton | Iowa.
Oakland State Bank | Oakland | Iowa.
Citizens State Bank | Oakland | Iowa.
First National Bank of Sioux City | Sioux Center | Iowa.
Security National Bank | Sioux City | Iowa.
Heartland Bank | Somers | Iowa.
State Bank | Spencer | Iowa.
Farmers Trust and Savings Bank | Spencer | Iowa.
First Bank & Trust | Spirit Lake | Iowa.
The Citizens First National Bank of Storm Lake | Storm Lake | Iowa.
West Chester Savings Bank | Washington | Iowa.
Community National Bank | Waterloo | Iowa.
The First National Bank of Waverly | Waverly | Iowa.
Peoples Savings Bank | Wellsburg | Iowa.
Farm Bureau Life Insurance Company | West Des Moines | Iowa.
Farm Bureau Mutual Insurance Company | West Des Moines | Iowa.
Farmers Savings Bank | Wever | Iowa.
State Bank | Worthington | Iowa.
Atwater State Bank | Atwater | Minnesota.
First National Bank of Brewster | Brewster | Minnesota.
City County Federal Credit Union | Brooklyn Center | Minnesota.
Peoples Bank of Commerce | Cambridge | Minnesota.
First National Bank | Chisholm | Minnesota.
Clinton State Bank | Clinton | Minnesota.
Eitzen State Bank | Eitzen | Minnesota.
Mainstreet Bank | Forest Lake | Minnesota.
Citizens State Bank of Glenville | Glenville | Minnesota.
First Security Bank—Hendricks | Hendricks | Minnesota.
The First National Bank of Henning | Henning | Minnesota.
Jackson Federal Savings & Loan Association | Jackson | Minnesota.
Janesville State Bank | Janesville | Minnesota.
Citizens State Bank of Kelliher | Kelliher | Minnesota.
Security State Bank of Kenyon | Kenyon | Minnesota.
State Bank of Long Lake | Long Lake | Minnesota.
Lake Country State Bank | Long Prairie | Minnesota.
United Prairie Bank—Madison | Madison | Minnesota.
Bank of Maple Plain | Maple Plain | Minnesota.
Superior Guaranty Insurance Company | Minneapolis | Minnesota.
First National Bank in Montevideo | Montevideo | Minnesota.
Valley Bank & Trust | New Ulm | Minnesota.
Citizens Bank of New Ulm | New Ulm | Minnesota.
Community National Bank | Northfield | Minnesota.
Minnwest Bank Ortonville | Ortonville | Minnesota.
Pine River State Bank | Pine River | Minnesota.
Border State Bank | Roseau | Minnesota.
First Security Bank—Sanborn | Sanborn | Minnesota.
Americana Community Bank | Sleepy Eye | Minnesota.
Western Bank | St. Paul | Minnesota.
Vermillion State Bank | Vermillion | Minnesota.
Northern State Bank of Virginia | Virginia | Minnesota.
First State Bank of Wabasha | Wabasha | Minnesota.
Heritage Bank | Willmar | Minnesota.
Merchants Bank, N.A | Winona | Minnesota.
First State Bank of Wyoming | Wyoming | Minnesota.
Bank of Zumbrota | Zumbrota | Minnesota.
Boone County National Bank | Columbia | Missouri.
Commercial Trust Company | Fayette | Missouri.
Home Exchange Bank | Jamesport | Missouri.
Jefferson Bank of MO | Jefferson City | Missouri.
Central Bank of Kansas City | Kansas City | Missouri.
CommunityAmerica Credit Union | Kansas City | Missouri.
Kearney Trust Company | Kearney | Missouri.
Lawson Bank | Lawson | Missouri.
United State Bank | Lewistown | Missouri.
First Missouri State Bank | Poplar Bluff | Missouri.
First State Bank of Purdy | Purdy | Missouri.
The Seymour Bank | Seymour | Missouri.
State Bank of Slater | Slater | Missouri.
The Citizens Bank of Sparta | Sparta | Missouri.
Metropolitan National Bank | Springfield | Missouri.
Southwest Bank of St. Louis | St. Louis | Missouri.
Webb City Bank | Webb City | Missouri.
Heartland State Bank | Edgeley | North Dakota.
Community National Bank | Grand Forks | North Dakota.
Bremer Bank, N.A | Grand Forks | North Dakota.
Stutsman County State Bank | Jamestown | North Dakota.
Northland Financial | Steele | North Dakota.
Peoples State Bank | Westhope | North Dakota.
Security State Bank | Wishek | North Dakota.
Dakota State Bank | Blunt | South Dakota.
BankWest, Inc. | Pierre | South Dakota.
American Memorial Life Insurance Company | Rapid City | South Dakota.
Security Bank | Sioux Falls | South Dakota.
First National Bank of White | White | South Dakota.
1st Dakota National Bank | Yankton | South Dakota.
Federal Home Loan Bank of Dallas—District 9
American Founders Life Insurance Company | Phoenix | Arizona.
Bank of Cave City | Cave City | Arkansas.
First National Bank of Crossett | Crossett | Arkansas.
Simmons First Bank of El Dorado, NA | El Dorado | Arkansas.
Bank of Arkansas, N.A | Fayetteville | Arkansas.
Greers Ferry Lake State Bank | Heber Springs | Arkansas.
First National Bank of Phillips County | Helena | Arkansas.
American State Bank | Jonesboro | Arkansas.
Little River Bank | Lepanto | Arkansas.
Malvern National Bank | Malvern | Arkansas.
Citizens National Bank | Nashville | Arkansas.
Merchants and Planters Bank | Newport | Arkansas.
Bank of Pocahontas | Pocahontas | Arkansas.
The Cottonport Bank | Cottonport | Louisiana.
Kaplan State Bank | Kaplan | Louisiana.
Sabine State Bank and Trust Company | Many | Louisiana.
Exchange Bank and Trust Company | Natchitoches | Louisiana.
Liberty Bank and Trust Company | New Orleans | Louisiana.
Sicily Island State Bank | Sicily Island | Louisiana.
St. Martin Bank and Trust Company | St. Martinville | Louisiana.
Concordia Bank & Trust Company | Vidalia | Louisiana.
The Evangeline Bank & Trust Company | Ville Platte | Louisiana.
Progressive Bank | Winnsboro | Louisiana.
First Security Bank | Batesville | Mississippi.
Peoples Bank of Franklin County | Bude | Mississippi.
Bank of the South | Crystal Springs | Mississippi.
Community Bank of Mississippi | Forest | Mississippi.
Community Bank, Indianola | Indianola | Mississippi.
Community Bank | Laurel | Mississippi.
Century Bank | Lucedale | Mississippi.
The Commercial Bank | Meridian | Mississippi.
Great Southern National Bank | Meridian | Mississippi.
Newton County Bank | Newton | Mississippi.
First National Bank of Oxford | Oxford | Mississippi.
The Citizens Bank of Philadelphia | Philadelphia | Mississippi.
The Peoples Bank & Trust Company | Tupelo | Mississippi.
The Bank of Belen | Belen | New Mexico.
The Carlsbad National Bank | Carlsbad | New Mexico.
Western Bank of Lordsburg | Lordsburg | New Mexico.
Community Bank | Santa Fe | New Mexico.
Peoples Bank | Taos | New Mexico.
Centinel Bank of Taos | Taos | New Mexico.
Amarillo National Bank | Amarillo | Texas.
First National Bank of Bastrop | Bastrop | Texas.
Community Bank and Trust, SSB | Beaumont | Texas.
Citizens State Bank | Buffalo | Texas.
First Community Bank | Corpus Christi | Texas.
National Bank of Daingerfield | Daingerfield | Texas.
Town North National Bank | Dallas | Texas.
First National Bank | Edinburg | Texas.
First National Bank | Fabens | Texas.
First National Bank | Fairfield | Texas.
First National Bank in Graham | Graham | Texas.
The First State Bank | Granger | Texas.
Prosperity Bank | Houston | Texas.
First Community Credit Union | Houston | Texas.
First National Bank of Huntsville | Huntsville | Texas.
The Laredo National Bank | Laredo | Texas.
First State Bank of Livingston | Livingston | Texas.
The First National Bank of Livingston | Livingston | Texas.
Franklin National Bank | Mt. Vernon | Texas.
First State Bank | New Braunfels | Texas.
Commercial National Bank | Texarkana | Texas.
Texline State Bank | Texline | Texas.
Randolph-Brooks Federal Credit Union | Universal City | Texas.
American Bank, N.A | Waco | Texas.
Union Square Federal Credit Union | Wichita Falls | Texas.
Federal Home Loan Bank of Topeka—District 10
FirstBank of Arvada | Arvada | Colorado.
FirstBank of Aurora | Aurora | Colorado.
FirstBank of Douglas County | Castle Rock | Colorado.
Western National Bank of Colorado | Colorado Springs | Colorado.
FirstBank of Lakewood | Lakewood | Colorado.
FirstBank of Littleton | Littleton | Colorado.
Olathe State Bank | Olathe | Colorado.
FirstBank of Silverthorne | Silverthorne | Colorado.
The First National Bank of Strasburg | Strasburg | Colorado.
First National Bank | Telluride | Colorado.
WestStar Bank | Vail | Colorado.
FirstBank of Wheat Ridge | Wheat Ridge | Colorado.
First National Bank of Yuma | Yuma | Colorado.
The First State Bank of Burlingame | Burlingame | Kansas.
The Farmers State Bank | Circleville | Kansas.
Emporia State and Trust Company | Emporia | Kansas.
Home State Bank | Erie | Kansas.
Union State Bank | Everest | Kansas.
Emprise Bank | Hillsboro | Kansas.
First Community Bank | Kansas City | Kansas.
First National Bank & Trust Co. in Larned | Larned | Kansas.
Gold Bank | Leawood | Kansas.
The Bank | Oberlin | Kansas.
First State Bank and Trust | Tonganoxie | Kansas.
Capital City Bank | Topeka | Kansas.
Commerce Bank and Trust | Topeka | Kansas.
Security Benefit Life Insurance Company | Topeka | Kansas.
Wellsville Bank | Wellsville | Kansas.
Boeing Wichita Credit Union | Wichita | Kansas.
First National Bank & Trust Company | Beatrice | Nebraska.
Exchange Bank | Gibbon | Nebraska.
First State Bank | Gothenburg | Nebraska.
Bank of Nebraska | La Vista | Nebraska.
West Gate Bank | Lincoln | Nebraska.
Home State Bank | Louisville | Nebraska.
Bank of Mead | Mead | Nebraska.
Farmers & Merchants Bank | Milford | Nebraska.
Wells Fargo Bank Nebraska. | Omaha | Nebraska.
First State Bank | Scottsbluff | Nebraska.
The Cattle National Bank | Seward | Nebraska.
First National Bank of Unadilla | Unadilla | Nebraska.
The First National Bank of Valentine | Valentine | Nebraska.
Charter West National Bank | West Point | Nebraska.
Winside State Bank | Winside | Nebraska.
AmeriState Bank | Atoka | Oklahoma.
The First National Bank of Chelsea | Chelsea | Oklahoma.
Alfalfa County Bank | Cherokee | Oklahoma.
First Commercial Bank | Edmond | Oklahoma.
Grand Federal Savings Bank | Grove | Oklahoma.
American Fidelity Assurance | Oklahoma City | Oklahoma.
Weokie Credit Union | Oklahoma City | Oklahoma.
First National Bank & Trust Co. of Weatherford | Weatherford | Oklahoma.
First National Bank in Wewoka | Wewoka | Oklahoma.
Federal Home Loan Bank of San Francisco—District 11
Salt River Project Credit Union | Phoenix | Arizona.
Omni Bank, N.A | Alhambra | California.
Western Sierra Bank | Cameron Park | California.
Bay Federal Credit Union | Capitola | California.
Privest Bank | Costa Mesa | California.
First Coastal Bank, N.A | El Segundo | California.
Lake Community Bank | Lakeport | California.
Farmers & Merchants Bank of Central California. | Lodi | California.
Nara Bank, National Association | Los Angeles | California.
Wilshire State Bank | Los Angeles | California.
Center Bank | Los Angeles | California.
County Bank | Merced | California.
Bank of Madera County | Oakhurst | California.
Coast Commercial Bank | Palo Alto | California.
Bay Area Bank | Palo Alto | California.
Valley Community Bank | Pleasanton | California.
Central Sierra Bank | San Andreas | California.
Sequoia National Bank | San Francisco | California.
Alliance Credit Union | San Jose | California.
Silver State Bank | Henderson | Nevada.
Security State Savings Bank | Las Vegas | Nevada.
Silver State Schools Family Credit Union | Las Vegas | Nevada.
Federal Home Loan Bank of Seattle—District 12
Honolulu City & County Employees FCU | Honolulu | Hawaii.
Valley Bank of Belgrade | Belgrade | Montana.
Rocky Mountain Bank | Billings | Montana.
Native American National Bank | Browning | Montana.
Mountain West Bank | Helena | Montana.
Three Rivers Bank of Montana. | Kalispell | Montana.
First National Bank of Lewistown | Lewistown | Montana.
Bitterroot Valley Bank | Lolo | Montana.
Missoula Federal Credit Union | Missoula | Montana.
Ronan State Bank | Ronan | Montana.
Western Bank of Wolf Point | Wolf Point | Montana.
Klamath First FS & LA | Klamath Falls | Oregon.
Rogue Federal Credit Union | Medford | Oregon.
First National Bank of Layton | Layton | Utah.
Capital Community Bank | Orem | Utah.
Deseret First Credit Union | Salt Lake City | Utah.
Anchor Savings Bank | Aberdeen | Washington.
The Bank of The Pacific | Aberdeen | Washington.
Bank NorthWest | Bellingham | Washington.
Whatcom Educational Credit Union | Bellingham | Washington.
Security State Bank | Centralia | Washington.
North Cascades National Bank | Chelan | Washington.
Bank of Whitman | Colfax | Washington.
Islanders Bank | Friday Harbor | Washington.
Community First Bank | Kennewick | Washington.
Washington's Credit Union | Mountlake Terrace | Washington.
NorthStar Bank | Seattle | Washington.
Sound Community Bank | Seattle | Washington.
Yakima Valley Credit Union | Yakima | Washington.
Yakima National Bank | Yakima | Washington.
First National Bank of Wyoming. | Laramie | Wyoming.
Bank of Lovell | Lovell | Wyoming.
The Rawlins National Bank | Rawlins | Wyoming.
First State Bank | Wheatland | Wyoming.

II. Public Comments

To encourage the submission of public comments on the community support performance of Bank members, on or before July 28, 2003, each Bank will notify its Advisory Council and nonprofit housing developers, community groups, and other interested parties in its district of the members selected for community support review in the 2002-03 sixth quarter review cycle. 12 CFR 944.2(b)(2)(ii). In reviewing a member for community support compliance, the Finance Board will consider any public comments it has received concerning the member. 12 CFR 944.2(d). To ensure consideration by the Finance Board, comments concerning the community support performance of members selected for the 2002-03 sixth quarter review cycle must be delivered to the Finance Board on or before the August 25, 2003 deadline for submission of Community Support Statements.

Dated: July 2, 2003.
Arnold Intrater,
General Counsel.

[FR Doc. 03-17214 Filed 7-11-03; 8:45 am]

BILLING CODE 6725-01-P